DEPARTMENT OF THE INTERIOR

Fish and Wildlife Service

Letter of Authorization to Take Marine Mammals

AGENCY: U.S. Fish and Wildlife Service, Interior.

ACTION: Notice of issuance of Letters of Authorization to take marine mammals incidental to oil and gas industry activities.

SUMMARY: In accordance with section 101(a)(5)(A) of the Marine Mammal Protection Act of 1972, as amended, and the U.S. Fish and Wildlife Service implementing regualtions [50 CFRs 18.27(f)(3)], notice is hereby given that the following Letters of Authorization to take polar bears incidental to oil and gas industry exploration activities in the Beaufort Sea and adjacent northern coast of Alaska have been issued to the following companies:

Company | Activity | Location | Date issued
Phillips Alaska, Inc | Exploration | Sunrise #1 | Nov. 8, 2001.
Phillips Alaska, Inc | Exploration | Cirque #3 and #4 | Nov. 8, 2001.
Phillips Alaska, Inc | Exploration | Anfros #1 | Nov. 8, 2001.
Phillips Alaska, Inc | Exploration | Spark #2-#5 | Nov. 8, 2001.
Phillips Alaska, Inc | Exploration | Cayman #1 | Nov. 8, 2001.
Phillips Alaska, Inc | Exploration | Alpine West #1 | Nov. 8, 2001.
Phillips Alaska, Inc | Exploration | Moose's Tooth A&C | Nov. 8, 2001.
Phillips Alaska, Inc | Exploration | Rendezvous B | Nov. 8, 2001.
Phillips Alaska, Inc | Exploration | Clover B | Nov. 8, 2001.
Phillips Alaska, Inc | Exploration | Lookout A | Nov. 8, 2001.
Phillips Alaska, Inc | Exploration | Sunrise #3 | Nov. 8, 2001.
Phillips Alaska, Inc | Exploration | Sunrise #2 | Nov. 8, 2001.
Phillips Alaska, Inc | Exploration | Callisto #1 | Nov. 8, 2001.
Phillips Alaska, Inc | Exploration | Ganymede #1 | Nov. 9, 2001.
Phillips Alaska, Inc | Exploration | Nanuq #5 | Nov. 9, 2001.
Phillips Alaska, Inc | Exploration | Grandview #1 | Nov. 9, 2001.
Phillips Alaska, Inc | Exploration | Lookout #2 | Nov. 9, 2001.
Phillips Alaska, Inc | Exploration | Hunter A | Nov. 9, 2001.
Phillips Alaska, Inc | Exploration | Hunter #2 | Nov. 9, 2001.
Anadarko Petroleum Corp | Exploration | Whiskey Gulch A and B | Nov. 9, 2001.

CONTACT: Mr. John W. Bridges at the U.S. Fish and Wildlife Service, Marine Mammals Management Office, 1011 East Tudor Road, Anchorage, Alaska 99503, (800) 362-5148 or (907) 786-3810.

SUPPLEMENTARY INFORMATION: The Letter of Authorization is issued in accordance with U.S. Fish and Wildlife Service Federal Rules and Regulations “Marine Mammals; Incidental Take During Specified Activities (65 FR 16828; March 30, 2000).”

Dated: November 26, 2001.
David B. Allen,
Regional Director.

[FR Doc. 01-31711 Filed 12-26-01; 8:45 am]

BILLING CODE 4310-55-M